DEPARTMENT OF COMMERCE

International Trade Administration

[A-570-875]

Non-Malleable Cast Iron Pipe Fittings From the People's Republic of China: Notice of Court Decision Not in Harmony With the Final Results Scope Ruling

AGENCY: Enforcement and Compliance, International Trade Administration, Department of Commerce.

SUMMARY: On March 11, 2024, the U.S. Court of International Trade (CIT or Court) issued its final judgment in MCC Holdings dba Crane Resistoflex v. United States and ASC Engineered Solutions LLC., Court No. 18-00248, Slip Op. 24-30 (CIT March 11, 2024) (Crane Slip Op. 24-28), sustaining the final remand results of the U.S. Department of Commerce (Commerce), pertaining to the final scope ruling on certain non-malleable cast iron pipe fittings (pipe fittings) from the People's Republic of China (China). Commerce is therefore amending its Final Scope Ruling to find that ductile iron flanges exported by MCC Holdings dba Crane Resistoflex (Crane) are not within the scope of the antidumping (AD) order on pipe fittings from China. Commerce is also notifying the public that the CIT's final judgment is not in harmony with the Final Scope Ruling.

DATES: Applicable March 21, 2024.

FOR FURTHER INFORMATION CONTACT: Maisha Cryor, AD/CVD Operations, Office IV, Enforcement and Compliance, International Trade Administration, U.S. Department of Commerce, 1401 Constitution Avenue NW, Washington, DC 20230; telephone: (202) 482-5831.

SUPPLEMENTARY INFORMATION:

Background

On November 19, 2018, Commerce issued its Final Scope Ruling on pipe fittings from China.¹ In its Final Scope Ruling, Commerce found that Crane's ductile iron flanges were within the scope of the AD order ² on pipe fittings from China.³ Crane appealed Commerce's final scope ruling. During the course of litigation, the CIT issued several remand orders culminating in MCC Holdings dba Crane Resistoflex v. United States and ASC Engineered Solutions, LLC, Court No. 18-00248, Slip Op. 22-128 (November 18, 2022) (Crane III). In Crane III, the CIT directed Commerce to issue a new determination, based on reasoning that did not misconstrue a previous decision of the court and in a form that would go into effect if sustained upon judicial review, determining whether Crane's ductile iron flanges are within the scope of the Order.⁴ Pursuant to the CIT's instructions, on remand, and under respectful protest, on December 16, 2022, Commerce found that Crane's ductile iron flanges are outside the scope of the Order.⁵ On March 11, 2024, the CIT sustained Commerce's Third Remand Redetermination.⁶

¹ See Memorandum, “Final Scope Ruling on the Antidumping Duty Order on Non-Malleable Cast Iron Pipe Fittings from the People's Republic of China: MCC Holdings dba Crane Resistoflex,” dated November 19, 2018 (Final Scope Ruling).

² See Notice of Antidumping Duty Order: Non-Malleable Cast Iron Pipe Fittings from the People's Republic of China, 68 FR 16765 (April 7, 2003) (Order).

³ See Final Scope Ruling.

⁴ See Crane III at 18-19.

⁵ See Final Results of Redetermination Pursuant to Court Remand, MCC Holdings dba Crane Resistoflex v. United States and ASC Engineered Solutions, LLC Court No. 18-00248, Slip Op. 22-128 (December 16, 2022) (Third Remand Redetermination) available at: https://access.trade.gov/Resources/remands/22-128.pdf.

⁶ See Crane Slip Op. 24-28.

Timken Notice

In its decision in Timken,⁷ as clarified by Diamond Sawblades,⁸ the U.S. Court of Appeals for the Federal Circuit held that, pursuant to section 516A(c) and (e) of the Tariff Act of 1930, as amended (the Act), Commerce must publish a notice of a court decision that is not “in harmony” with a Commerce determination and must suspend liquidation of entries pending a “conclusive” court decision. The CIT's March 11, 2024, judgment constitutes a final decision of the CIT that is not in harmony with Commerce's final scope ruling. This notice is published in fulfillment of the publication requirements of Timken.

⁷ See Timken Co. v. United States, 893 F.2d 337 (Fed. Cir. 1990) (Timken).

⁸ See Diamond Sawblades Mfrs. Coal. v. United States, 626 F.3d 1374 (Fed. Cir. 2010) (Diamond Sawblades).

Amended Final Scope Ruling

There is now a final scope decision with respect to the Final Scope Ruling. Therefore, Commerce is amending its Final Scope Ruling and finds that the scope of the Order does not cover the products addressed in the Final Scope Ruling. The period to appeal the CIT's ruling expires on May 10, 2024. Commerce will instruct U.S. Customs and Border Protection (CBP) that, pending any appeals, the cash deposit rate will be zero percent for entries of Crane's ductile iron flanges from China. In accordance with the CIT's order sustaining Commerce's third final remand redetermination, Commerce intends to, with the publication of this notice, issue instructions to CBP to lift suspension of liquidation of such entries, and to liquidate entries of the door thresholds without regard to antidumping duties, with consideration for any potential appeal of the CIT's final judgement.

Notification to Interested Parties

This notice is issued and published in accordance with sections 516A(c) and (e), of the Act.

Dated: March 21, 2024.
Ryan Majerus,
Deputy Assistant Secretary for Policy and Negotiations, performing the non-exclusive functions and duties of the Assistant Secretary for Enforcement and Compliance.

[FR Doc. 2024-06473 Filed 3-26-24; 8:45 am]

BILLING CODE 3510-DS-P